ENVIRONMENTAL PROTECTION AGENCY

40 CFR Part 300

[FRL-7144-2]

National Oil and Hazardous Substance Pollution Contingency Plan; National Priorities List

AGENCY: Environmental Protection Agency.

ACTION: Direct final notice of deletion of the Luke Air Force Base Superfund Site from the National Priorities List.

SUMMARY: The Environmental Protection Agency (EPA) Region 9 is publishing a direct final notice of deletion of the Luke Air Force Base (AFB) Superfund Site (Site), located in Glendale, AZ from the National Priorities List (NPL).

The NPL, promulgated pursuant to Section 105 of the Comprehensive Environmental Response, Compensation, and Liability Act (CERCLA) of 1980, as amended, is appendix B of 40 CFR part 300, which is the National Oil and Hazardous Substances Pollution Contingency Plan (NCP). This direct final notice of deletion is being published by EPA with the concurrence of the State of Arizona through the Arizona Department of Environmental Quality (ADEQ) because EPA has determined that all appropriate response actions under CERCLA have been completed and, therefore, further remedial action pursuant to CERCLA is not appropriate.

DATES: This direct final deletion will be effective April 22, 2002, unless EPA receives adverse comments by March 21, 2002. If adverse comments are received, EPA will publish a timely withdrawal of the direct final deletion in the Federal Register informing the public that the deletion will not take effect.

ADDRESSES: Comments may be mailed to: Xuan-Mai Tran, Remedial Project Manager (RPM) (SFD-8-3), Tran.Xuan-Mai@epa.gov, U.S. EPA Region 9, 75 Hawthorne Street, San Francisco, CA USA 94105, 415-972-3002 or 1-800-231-3075.

Information Repositories: Comprehensive information about the Site is available for viewing and copying at the Site information repositories located at: U.S. EPA Region 9 Superfund Record Center, 95 Hawthorne Street, San Francisco CA USA 94105, 415-536-2000 Monday through Friday 8:00 a.m. to 5:00 p.m.; Glendale Public Library, 5959 West Brown Street, Glendale, AZ 85302, 623-930-3531; Arizona Department of Environmental Quality, WPD/SPS/FPU Section/Federal Projects Unit, 3033 N. Central Ave., Phoenix, AZ 85012, 602-207-2300 or 1-800-234-5677.

FOR FURTHER INFORMATION CONTACT: Xuan-Mai Tran, Remedial Project Manager (SFD-8-3), Tran.Xuan-Mai@epa.gov, U.S. EPA Region 9, 75 Hawthorne Street, San Francisco, CA USA, 94105, 415-972-3002 or 1-800-231-3075.

SUPPLEMENTARY INFORMATION:

Table of Contents

I. Introduction

II. NPL Deletion Criteria

III. Deletion Procedures

IV. Basis for Site Deletion

V. Deletion Action

I. Introduction

EPA Region 9 is publishing this direct final notice of deletion of the Luke AFB Superfund Site from the NPL.

The EPA identifies sites that appear to present a significant risk to public health or the environment and maintains the NPL as the list of those sites. As described in § 300.425(e)(3) of the NCP, sites deleted from the NPL remain eligible for remedial actions if conditions at a deleted site warrant such action.

Because EPA considers this action to be noncontroversial and routine, EPA is taking it without prior publication of a notice of intent to delete. This action will be effective April 22, 2002, unless EPA receives adverse comments by March 21, 2002, on this notice or the parallel notice of intent to delete published in the Proposed Rules section of today's Federal Register. If adverse comments are received within the 30-day public comment period on this document or the Notice of Intent to Delete, EPA will publish a timely withdrawal of this Direct Final Notice of Deletion before the effective date of the deletion and the deletion will not take effect. EPA will, as appropriate, prepare a response to comments and continue with the deletion process on the basis of the notice of intent to delete and the comments already received. There will be no additional opportunity to comment.

Section II of this document explains the criteria for deleting sites from the NPL. Section III discusses procedures that EPA is using for this action. Section IV discusses the Luke AFB Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a release from the NPL, EPA shall consider, in consultation with the State, whether any of the following criteria have been met:

i. Responsible parties or other persons have implemented all appropriate response actions required;

ii. All appropriate Fund-financed (Hazardous Substance Superfund Response Trust Fund) response under CERCLA has been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c) requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to deletion of the Site:

(1) The EPA consulted with Arizona on the deletion of the Site from the NPL prior to developing this direct final notice of deletion.

(2) Arizona concurred with deletion of the Site from the NPL.

(3) Concurrently with the publication of this direct final notice of deletion, a notice of the availability of the parallel notice of intent to delete published today in the “Proposed Rules” section of the Federal Register is being published in a major local newspaper of general circulation at or near the Site and is being distributed to appropriate federal, state, and local government officials and other interested parties; the newspaper notice announces the 30-day public comment period concerning the notice of intent to delete the Site from the NPL.

(4) The EPA placed copies of documents supporting the deletion in the Site information repositories identified above.

(5) If adverse comments are received within the 30-day public comment period on this notice or the companion notice of intent to delete also published in today's Federal Register, EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Location

Luke AFB, an advanced fighter pilot training installation, covers approximately 4,000 acres west of the Phoenix metropolitan area in Glendale, Arizona.

Site History

Luke AFB is an active Air Force installation. Aircraft maintenance and light industrial operations which support advanced flight training missions have been in existence at Luke AFB since its inception in 1941. These activities generated potentially hazardous wastes such as petroleum residues, cleaning solvents, and other related materials.

The central and western portions of Luke AFB include the runways, aircraft operation, training, and maintenance facilities, and open space. The eastern portion of the Base consists of a variety of administrative offices, barracks, recreation centers, residential housing, the Base hospital, and other commercial areas.

The site was listed on the National Priorities List on August 30, 1990. On September 27, 1990, the EPA, Arizona Department of Environmental Quality (ADEQ), Arizona Department of Water Resources (ADWR), and the United States Air Force (USAF) signed a Federal Facilities Agreement (FFA) to establish the procedural framework for conducting the required environmental investigations at Luke AFB.

Remedial Investigation and Feasibility Study (RI/FS)

To aid in the management of the remedial investigation/feasibility study (RI/FS), the FFA parties divided the thirty-three potential sources of contamination (PSCs) sites into two Operable Units, OU-1 and OU-2. OU-1 included the investigation of the soils at twenty-five PSCs and the Base-wide investigation of air, surface water, and groundwater resources. OU-2 included the investigation of soils at eight PSCs sites at which petroleum-related wastes were believed to have been disposed.

Record of Decision Findings

OU-1: The Record of Decision (ROD) for OU-1 was signed in May 1999. This document was issued by EPA to set forth the results of the investigation of the soils at twenty-five PSCs and the Base-wide investigation of air, surface water, and groundwater resources:

• Eight of those twenty-five PSCs (OT-01, OT-08, OT-09, DP-24, SS-15, SS-16, ST-19, and OT-10) were classified as “No Action” because either: (1) data obtained during an extensive review of Base records showed that hazardous materials or wastes were never handled or disposed at these areas, (2) the PSCs contained underground storage tanks and therefore were placed under the jurisdiction of the ADEQ Underground Storage Tanks section, or (3) the PSCs were consolidated with other PSCs. These eight PSCs did not require further action under Superfund Authority.

• Nine more of those twenty-five PSCs (SS-11, OT-12, SS-17, SD-20, SD-21, SD-26, LF-37, SD-39, and OT-41) were also classified as “No Action.” These PSCs were evaluated initially in the Remedial Investigation (RI) and in the Base-wide Risk Assessment, but remedial actions were not developed for these PSCs because the risk assessment showed that the risks were within or below the EPA's risk-based remediation benchmarks for unrestricted use. These nine PSCs did not require cleanup.

• Five more PSCs (LF-03, FT-07E, DP-13, LF-14, and SD-38) need institutional controls only. Institutional controls will serve to maintain the current site conditions and will control the risks to human health by prohibiting residential development and requiring personal protective equipment in the case of excavation.

At the remaining three PSCs, EPA required the Air Force to conduct remedial actions:

• PSC RW-02 is the former 28-acre landfill located within the Wastewater Treatment Plant (WWTP) annex area and is located approximately two miles east of the main Base. This landfill served as the main refuse disposal location for Luke AFB from 1953 to 1970. Investigations concluded that concentrations of chemicals of concern (COCs) identified for soil (BNAs, TRPH, metals) and groundwater (i.e., arsenic, lead) at RW-02 did not pose adverse health effects under current land use scenarios (military/industrial).

However, within a portion of the PSC RW-02, a small quantity of low-level radioactive electron tubes and radium dials were buried in a concrete containment structure in 1956. The buried containment structure is double-fenced and designated with signs warning of the presence of radiological materials. Recent monitoring results indicate that the soils surrounding the buried containment structure have not been impacted and that surface measurements are comparable to background levels. Although the investigations and Base-wide risk assessment concluded that current risks from radionuclides are within or below acceptable risks levels for current use, the presence of the buried low-level radioactive containment structure would prevent residential land use in the future. The remedial actions selected for the structure include: long-term radiological monitoring, at least once a year for the next 30 years, and perimeter fencing and other institutional controls prohibiting residential development.

At PSC LF-25, the Northwest Landfill consists of an area formerly used for landfilling along the southwest boundary of the Base, between the west perimeter and the northwest runway. Portions of this landfill are located immediately downrange of the Base skeet shooting range. Lead and antimony were present in the surface soils in the form of metal shot that was fired from the adjacent Base skeet shooting range. Metal shot was remediated via mechanical sifting and gravimetric separation, and metals recovery. Institutional controls were imposed prohibiting residential development and requiring personal protective equipment in the case of excavation.

• PSC SS-42 was the Bulk Fuels Storage area where volatile organic compounds and waste oil were detected constituents in groundwater samples. The Air Force was required to conduct soil vapor extraction (SVE) and five years of groundwater monitoring after the SVE was completed. An initial soil confirmation sampling event was conducted in June 1997. Post-remediation sampling was conducted in January of 1999.

OU-2: The Record of Decision for OU-2 was signed in January 1994. This document was issued by EPA to set forth the results of the investigation of soils at eight PSCs at which petroleum-related wastes were believed to have been disposed.

• Six PSCs (OT-04, DP-05, FT-06, FT-07W, DP-22, and SD-40) were classified as “No Action” because the OU-2 site-specific risk assessment concluded that soil conditions did not represent a significant hazard to human health or the environment.

At the other two PSCs, EPA required the Air Force to conduct remedial actions:

• PSC ST-18 (Facility 993) consists of a former liquid waste storage facility located in the southern part of the Base. Capping, surface controls, and monitoring the concrete cap were required as remedies for PSC ST-18. Maintenance and inspection of the concrete cap is an ongoing requirement. Also, groundwater monitoring will take place during each five-year review.

• PSC DP-23 (old surface impoundment west of Facility 999): Excavation, soil composting, confirmation sampling, and on-site disposal of impacted soils were required as remedies for this PSC.

Characterization of Risk

The Air Force conducted a baseline Base-wide risk assessment for Luke AFB to evaluate risks associated with exposure to soils at each of the OU-1 and OU-2 PSCs and a Base-wide evaluation of risks associated with exposure to constituents detected in soil, groundwater, surface water, sediment and air. The risk assessment was prepared based on the analytical results of soil, sediment, surface water, and groundwater collected as part of the RIs for OU-1 and OU-2 and related investigations for the period 1989 through 1996. The methodology used for the human health portion of the Base-wide risk assessment was developed based on criteria established by the EPA for conducting risk assessments at Superfund sites.

In addition to evaluating potential human health risks, an ecological risk assessment was also performed. Based on the results of the ecological risk assessment, it is unlikely site-related chemicals of concern (COC) concentrations would propose a risk to ecological receptors at Luke AFB. The selected remedies at Luke AFB are protective of human health and the environment and exposure pathways that could result in unacceptable risks are being controlled.

Response Actions and Cleanup Standards

OU-1:

• Five PSCs (LF-03, FT-07E, DP-13, LF-14, and SD-38) need institutional controls only. Institutional controls consist of a Voluntary Environmental Mitigation Use Restrictions (VEMUR) and constraints within the Base General Plan (BGP) that must be implemented, maintained, and enforced to limit future residential development. Depending on the specific site conditions, a variety of different institutional controls may be used alone or combined to provide the appropriate level of protection. Institutional controls will serve to maintain the current site conditions and will control the risks to human health by prohibiting residential development and requiring personal protective equipment in the case of excavation. The specific remedial components implemented were VEMURs, modifications to the BGP, and development of an Institutional Control Plan (ICP).

• PSC RW-02, Wastewater Treatment Annex Landfill: The Air Force was required to conduct long-term (30-year) monitoring, install fencing, and put in place institutional controls at the low-level radioactive area. Perimeter fencing was installed around the low-level radioactive area. Signs were attached to the fence to clearly indicate that radioactive materials were present. Institutional controls include a VEMUR, modifications to BGP, and development of an ICP to restrict residential development.

• PSC LF-25, Northwest Landfill: The Air Force was required to conduct shot recovery activities which included mechanical sifting of soil and gravimetric separation methods to reduce the concentration of lead and antimony. Approximately 2,800 pounds of metal shot were recovered from the site. Based on the results of the analysis after the completion of the recovery process, lead and antimony were not detected above their respective Arizona Soil Remediation Levels for residential use standards of 400 mg/kg and 31 mg/kg respectively. Institutional controls components included a VEMUR, modifications to BGP, and development of an ICP to restrict residential development and to impose restrictions while excavating in the area.

• PSC SS-42, Bulk Fuels Storage: The Air Force was required to install a SVE system that operated from August 1996 to November 1998 removing 66,586 gallons of total volatile hydrocarbons. Post-SVE sampling showed that the subsurface soil was cleaned up to protective levels using the Arizona Groundwater Protection Levels model. The ROD requires that groundwater monitoring will be conducted annually upon completion of the SVE for a minimum of five years. If petroleum-related contaminants are not detectable in the groundwater during the monitoring period, no additional groundwater monitoring will be required. However, if conditions change during the monitoring period and petroleum related contaminants are detected at concentrations above the levels established in the ROD for groundwater, the need for additional monitoring will be reexamined, and an alternative monitoring program may be necessary. The first annual groundwater monitoring for this site was completed on May 16, 2000. The analytical results indicate that the groundwater did not contain total petroleum hydrocarbons (TPH) or volatile organic compounds (VOCs) above the levels established in the ROD or above laboratory detection limits. No additional construction activities are required.

OU-2:

• PSC ST-18: The contaminants of concern are TPH and VOCs. The Air Force was required to install a concrete cap in 1987 as part of the Resource Conservation and Recovery Act (RCRA) closure requirements. There were no other construction activities associated with this remedy. The Air Force was required to maintain and repair the concrete cap as needed in accordance with the Air Force design guidance for airfield pavement maintenance. The remedy also requires 30 years of groundwater monitoring. The groundwater monitoring plan was developed prior to EPA's CERCLA involvement. The plan is consistent with standard EPA sampling and analytical protocols and provides data of known quality. Groundwater sampling through 1999 indicates no quantifiable concentrations of hazardous substances in the groundwater resources above Federal and State drinking water standards. In addition to the groundwater monitoring, a vadose-zone model, Multimed, was utilized to determine the leaching effects of the chemicals of concern present at their corresponding depths. It was determined that there would be negligible impact to the groundwater from the waste left in place.

• PSC DP-23, Old surface impoundment west of Facility 999: The contaminants of concern are polynuclear aromatic hydrocarbons (PAHs). The remedial actions required were excavation, soil composting to respective Preliminary Remediation Goals (PRGs), on-site disposal, and monitoring. Upon completion of soil composting activities, the highest detected concentration of benzo(a)pyrene was 0.508 mg/kg which did not exceed its corresponding PRG of 0.78 mg/kg. The standard was Region 9 Industrial PRGs. No other PAHs were detected. The ROD did not require that institutional control measures be implemented for this site. The BGP limits types of activities, including residential development, in areas adjacent to the runway. Since this site is adjacent to the runway, the BGP provides restrictions against residential development, as long as the facility remains an active military base.

The Luke AFB conducted a final PSCs inspection in August 1997. Also, EPA and ADEQ conducted a final site inspection in April 2000 and determined that the Air Force has constructed the remedy in accordance with the requirements in the RODs for OU-1 and OU-2, and the Remedial Action Work Plans. The Air Force completed all activities necessary to achieve performance standards, and initiated activities necessary to achieve site cleanup completion.

Operation and Maintenance

The final ICP dated December 15, 2000 provides specific requirements for the establishment, implementation, and maintenance of institutional controls at Luke AFB. Institutional controls are an integral part of the remedial alternatives selected for Luke AFB. The ICP was designed to facilitate training and education of all personnel involved with the implementation and enforcement of the required institutional controls. The ICP details the objectives and rationales for establishing institutional controls and describes the procedures that will be implemented to ensure that the required institutional controls are enforced. The ICP also includes provisions for annual reviews and updates of the BGP, thus ensuring regular checks and balances are in place into the foreseeable future.

Ongoing monitoring is required at PSC RW-02 and PSC SS-42. The requirements for monitoring at RW-02 are outlined in the November 2000 Long-Term Radiological Monitoring Plan. The requirements for monitoring at PSC SS-42 included 5-years of groundwater monitoring and the details are outlined in the November 2000 Long-Term Monitoring Plan. Also, there are ongoing operations and maintenance requirements associated with the selected remedial alternative for PSC ST-18. As per the OU-2 ROD, Luke AFB maintains and repairs the concrete cap as needed in accordance with the Air Force design guidance for airfield pavement maintenance. This guidance is contained in the Air Force technical manual CEEDO-TR-77-44, Volume II, Section V, Guidelines for Determining Maintenance and Repair Requirements. Once Luke AFB is delisted from the NPL, ADEQ will continue the oversight on long-term activities at the Base.

Five-Year Review

The CERCLA or Superfund requires a five-year review of all sites with hazardous substances remaining above the health-based levels for unrestricted use of the site. Pursuant to CERCLA 121 (c) and as provided in the current guidance on five-year reviews, the AF, ADEQ, and EPA will conduct statutory reviews at this site. The AF submitted the Draft Final of the First Five Year Review (Report) on December 3, 2001. EPA agreed with the findings, conclusions, and recommendations provided in the Report, and concurred with the AF that the remedies remain protective of human health and the environment at Luke AFB. EPA signed the concurrence letter on January 30, 2002. The AF is scheduled to complete the next Five Year Review by January 2007.

Community Involvement

Public participation activities have been satisfied as required in CERCLA section 113(k), 42 U.S.C. 9613(k), and CERCLA section 117, 42 U.S.C. 9617. Documents in the deletion docket which EPA relied on for recommendation of the deletion from the NPL are available to the public in the information repositories.

V. Deletion Action

The EPA, with concurrence of the State of Arizona, has determined that all appropriate responses under CERCLA have been completed, and that no further response actions, under CERCLA, other than O&M and five-year reviews, are necessary. Therefore, EPA is deleting the Site from the NPL.

Because EPA considers this action to be noncontroversial and routine, EPA is taking it without prior publication of a notice of intent to delete. This action will be effective April 22, 2002, unless EPA receives adverse comments by March 21, 2002, on a parallel notice of intent to delete published in the Proposed Rule section of today's Federal Register. If adverse comments are received within the 30-day public comment period on the proposal, EPA will publish a timely withdrawal of this direct final notice of deletion before the effective date of the deletion and it will not take effect, and EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: February 6, 2002.
Wayne Nastri,
Regional Administrator, Region 9.

For the reasons set out in this document, 40 CFR part 300 is amended as follows:

PART 300—[AMENDED]

1. The authority citation for Part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 2 of appendix B to part 300 is amended under Arizona (“AZ”) by removing the site name “Luke Air Force Base” and the city “Glendale.”

[FR Doc. 02-3764 Filed 2-15-02; 1:38 pm]

BILLING CODE 6560-50-U